DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 8, 2009. Address written comments to Statutory Import Programs Staff, Room 3720, U.S. Department of Commerce, Washington, D.C. 20230. Applications may be examined between 8:30 A.M. and 5:00 P.M. at the U.S. Department of Commerce in Room 3720.

Docket Number: 09-022. Applicant: Princeton University, Department of Chemical Engineering, A217 Engineering Quadrangle, Princeton, NJ 08544. Instrument: SWAXS Dual 1D Position-Sensitive-Detector (PSD) System. Manufacturer: Hecus X-Ray System GmbH, Austria. Intended Use: The instrument will be used to acquire information regarding block copolymer microstructures. The dual system allows simultaneous acquisition of time resolved small-angle and wide-angle x-ray scattering data, which provides information regarding the morphology of both amorphous and semi-crystalline block copolymers. Justification for Duty-Free Entry: Use of any other detector system would potentially require considerable reconfiguration of the entities current x-ray system. Application accepted by Commissioner of Customs: April 28, 2009.

Dated: May 13, 2009.
Christopher Cassel,
Acting Director, IA Subsidies Enforcement Office.

[FR Doc. E9-11670 Filed 5-18-09; 8:45 am]

BILLING CODE 3510-DS-S